DEPARTMENT OF ENERGY

Environmental Management Site-Specific Advisory Board, Savannah River Site

AGENCY: Department of Energy.

ACTION: Notice of open meeting.

SUMMARY: This notice announces a meeting of the Environmental Management Site-Specific Advisory Board (EM SSAB), Savannah River Site. The Federal Advisory Committee Act requires that public notice of this meeting be announced in the Federal Register.

DATES: Monday, July 23, 2018, 1:00 p.m.-5:00 p.m.; Tuesday, July 24, 2018, 9:00 a.m.-5:00 p.m.

ADDRESSES: Hilton Garden Inn, 1065 Stevens Creek Road, Augusta, GA 30907.

FOR FURTHER INFORMATION CONTACT: Amy Boyette, Office of External Affairs, Department of Energy, Savannah River Operations Office, P.O. Box A, Aiken, SC 29802; Phone: (803) 952-6120.

SUPPLEMENTARY INFORMATION:

Purpose of the Board: The purpose of the Board is to make recommendations to DOE-EM and site management in the areas of environmental restoration, waste management, and related activities.

Tentative Agenda

Monday, July 23, 2018

Opening, Chair Update, and Agenda Review

Agency Updates

Break

Administrative & Outreach Committee Update

Facilities Disposition & Site Remediation Committee Update

Nuclear Materials Committee Update

Strategic & Legacy Management Committee Update

Waste Management Committee Update

Discussion of Draft Recommendations

• Ship Low Activity Glass Logs to Waste Isolation Pilot Plant (WIPP)

• Transuranic (TRU) Shipments to WIPP

• Restart the Savannah River Site (SRS)/Idaho National Laboratory (INL) Spent Nuclear Fuel (SNF) Exchange

Public Comments

Recess

Tuesday, July 24, 2018

Reconvene

Agenda Review

Presentations

• D Area Ash Project

• Pollination Activities

Lunch Break

Presentations

• 235-F Deactivation

• Price Anderson Act and Nuclear Quality Assurance-1 (NQA 1) Standards

Break

Presentations

• Salt Waste Processing Facility Update

• Interim Salt Processing (Tank Closure Cesium Removal (TCCR) & Actinide Removal Process (ARP)/Modular Caustic Side Solvent Extraction Unit (MCU))

Public Comments

Voting

• Recommendations Proposed for Closure

○ #351: Savannah River National Laboratory Funding

○ #352: Glass Waste Storage

○ #353: Defense Waste Processing Facility Additional Failed Equipment Storage

• Draft Recommendations

○ Ship Low Activity Glass Logs to WIPP

○ TRU Shipments to WIPP

○ Restart the SRS/INL SNF Exchange

Adjourn

Public Participation: The EM SSAB, Savannah River Site, welcomes the attendance of the public at its advisory committee meetings and will make every effort to accommodate persons with physical disabilities or special needs. If you require special accommodations due to a disability, please contact Amy Boyette at least seven days in advance of the meeting at the phone number listed above. Written statements may be filed with the Board either before or after the meeting. Individuals who wish to make oral statements pertaining to agenda items should contact Amy Boyette's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Amy Boyette at the address or phone number listed above. Minutes will also be available at the following website: http://cab.srs.gov/srs-cab.html.

Issued at Washington, DC, on June 28, 2018.
Latanya Butler,
Deputy Committee Management Officer.

[FR Doc. 2018-14328 Filed 7-2-18; 8:45 am]

BILLING CODE 6450-01-P